DEPARTMENT OF COMMERCE

National Oceanic and Atmospheric Administration

50 CFR Part 679

RIN 0648-XA500

North Pacific Fishery Management Council; Essential Fish Habitat Amendments

AGENCY: National Marine Fisheries Service (NMFS), National Oceanic and Atmospheric Administration (NOAA), Commerce.

ACTION: Notification of availability of fishery management plan amendments; request for comments.

SUMMARY: The North Pacific Fishery Management Council submitted the following essential fish habitat (EFH) amendments to NMFS for review: Amendment 98 to the Fishery Management Plan (FMP) for Groundfish of the Bering Sea and Aleutian Islands Management Area; Amendment 90 to the FMP for Groundfish of the Gulf of Alaska; Amendment 40 to the FMP for Bering Sea/Aleutian Islands King and Tanner Crabs; Amendment 15 to the FMP for the Scallop Fishery off Alaska; and Amendment 1 to the FMP for Fish Resources of the Arctic Management Area. If approved, these amendments would update the existing EFH provisions based on a 5-year EFH review. This action is intended to promote the goals and objectives of the Magnuson-Stevens Fishery Conservation and Management Act, the FMPs, and other applicable laws.

DATES: Comments on the amendments must be submitted on or before October 9, 2012.

ADDRESSES: Send comments to Glenn Merrill, Assistant Regional Administrator, Sustainable Fisheries Division, Alaska Region, NMFS, Attn: Ellen Sebastian. You may submit comments, identified by FDMS Docket Number NOAA-NMFS-2011-0070, by any one of the following methods:

• Electronic Submissions: Submit all electronic public comments via the Federal eRulemaking Portal Web site at www.regulations.gov. To submit comments via the e-Rulemaking Portal, first click the “submit a comment” icon, enter NOAA-NMFS-2011-0070 in the keyword search. Locate the document you wish to comment on from the resulting list and click on the “Comment Now” icon on the right of that line.

• Mail: Address written comments to Glenn Merrill, Assistant Regional Administrator, Sustainable Fisheries Division, Alaska Region NMFS, Attn: Ellen Sebastian. Mail comments to P.O. Box 21668, Juneau, AK 99802-1668.

• Fax: Address written comments to Glenn Merrill, Assistant Regional Administrator, Sustainable Fisheries Division, Alaska Region NMFS, Attn: Ellen Sebastian. Fax comments to 907-586-7557.

• Hand delivery to the Federal Building: Address written comments to Glenn Merrill, Assistant Regional Administrator, Sustainable Fisheries Division, Alaska Region NMFS, Attn: Ellen Sebastian. Deliver comments to 709 West 9th Street, Room 420A, Juneau, AK.

Comments must be submitted by one of the above methods to ensure that the comments are received, documented, and considered by NMFS. Comments sent by any other method, to any other address or individual, or received after the end of the comment period, may not be considered. All comments received are a part of the public record and will generally be posted for public viewing on www.regulations.gov without change. All personal identifying information (e.g., name, address) submitted voluntarily by the sender will be publicly accessible. Do not submit confidential business information, or otherwise sensitive or protected information. NMFS will accept anonymous comments (enter “N/A” in the required fields if you wish to remain anonymous). Attachments to electronic comments will be accepted in Microsoft Word or Excel, WordPerfect, or Adobe PDF file formats only.

Electronic copies of the environmental assessment prepared for this action are available from www.regulations.gov or from the NMFS Alaska Region Web site at www.alaskafisheries.noaa.gov.

FOR FURTHER INFORMATION CONTACT: Sarah Ellgen, 907-586-7228.

SUPPLEMENTARY INFORMATION: The Magnuson-Stevens Fishery Conservation and Management Act (MSA) requires that each regional fishery management council submit any FMP amendment it prepares to NMFS for review and approval, disapproval, or partial approval by the Secretary of Commerce. The MSA also requires that NMFS, upon receiving an FMP amendment, immediately publish a notice in the Federal Register announcing that the amendment is available for public review and comment.

This notice announces proposed EFH Amendment 98 to the FMP for Groundfish of the Bering Sea and Aleutian Islands Management Area (BSAI Groundfish FMP); Amendment 90 to the FMP for Groundfish of the Gulf of Alaska (GOA Groundfish FMP); Amendment 40 to the FMP for Bering Sea/Aleutian Islands King and Tanner Crabs (BSAI Crab FMP); Amendment 15 to the FMP for the Scallop Fishery off Alaska (Scallop FMP); and Amendment 1 to the FMP for Fish Resources of the Arctic Management Area (Arctic FMP). The North Pacific Fishery Management Council (Council) prepared the BSAI Groundfish FMP, the GOA Groundfish FMP, the BSAI Crab FMP, the Scallop FMP, the Arctic FMP, and the FMP for Salmon Fisheries in the EEZ Off the Coast of Alaska (Salmon FMP) under the authority of the MSA, 16 U.S.C. 1801 et seq.

The MSA includes provisions concerning the identification and conservation of EFH. The MSA defines EFH as “those waters and substrate necessary to fish for spawning, breeding, feeding, or growth to maturity.” NMFS and regional fishery management councils must describe and identify EFH in FMPs. Each FMP contains the following EFH components: EFH descriptions and identification; fishing activities that may adversely affect EFH; non-fishing activities that may adversely affect EFH; cumulative impacts analysis; EFH conservation and enhancement recommendations; prey species list and locations; Habitat Areas of Particular Concern (HAPC) identification; research and information needs; and the requirement to review EFH every 5 years.

In 2005, the Council recommended amendments to address EFH requirements for the BSAI Groundfish FMP, the GOA Groundfish FMP, the BSAI Crab FMP, the Scallop FMP, and the Salmon FMP. The Arctic FMP approved by the Council in 2009 included EFH provisions. Regulations implementing EFH and HAPC conservation measures under Amendments 78 and 65 to the BSAI Groundfish FMP, Amendments 73 and 65 to the GOA Groundfish FMP, Amendments 16 and 12 to the BSAI Crab FMP, Amendments 7 and 9 to the Scallop FMP, and Amendments 7 and 8 to the Salmon FMP were published on June 28, 2006 (71 FR 36694). The FMP approval and implementing regulations for the Arctic FMP were published on November 3, 2009 (74 FR 56734).

In 2009 and 2010, a 5-year EFH review was conducted for the Council. The results of this review are documented in the Final EFH 5-year Review for 2010 Summary Report (www.alaskafisheries.noaa.gov/habitat/efh/review/efh_5yr_review_sumrpt.pdf). The Report reviewed EFH provisions in five of the Council's six FMPs: the BSAI Groundfish FMP, the GOA Groundfish FMP, the BSAI Crab FMP, the Scallop FMP, and the Salmon FMP. The Arctic FMP was approved by the Secretary of Commerce in August 2009 (74 FR 56734). Because a thorough assessment of EFH was included in the Arctic FMP, EFH descriptions for Arctic species were not addressed in the 5-year review report.

The 5-year review evaluated new information on EFH, assessed information gaps and research needs, and identified whether any revisions to EFH are needed or suggested. Based on the 5-year review and the summary report, the Council identified various elements of the EFH FMP text that merit revision. The proposed FMP amendments would revise the following components:

• Amend the EFH provisions of the BSAI and GOA Groundfish FMPs for 24 groundfish species or complexes.

• Amend the EFH provisions of the BSAI Crab FMP for five crab species or complexes.

• Amend the EFH provisions of the Scallop FMP for weathervane scallop.

• Amend the EFH conservation recommendations for non-fishing activities in all Council FMPs.

• Revise the timeline for considering HAPCs from 3 years to 5 years in all Council FMPs.

• Revise the research objectives for EFH in the five Council FMPs subject to the 2010 EFH 5-year review (excludes the Arctic FMP).

The 2010 EFH 5-year review concluded that no change to the 2005 conclusions on the evaluation of fishing effects on EFH was warranted based on a review of information from 2005 through 2010.

Several EFH revisions have been approved since the 2010 EFH review was conducted. Specifically, the Council recommended, and NMFS approved, Amendment 11 to the Salmon FMP regarding recommendations for non-fishing activities, HAPC timeline change, and EFH research objectives. Amendment 11 was proposed with Amendments 10 and 12 to the Salmon FMP (77 FR 19605, April 2, 2012). The Secretary of Commerce approved Amendments 10, 11, and 12 on July 2, 2012. NMFS is not proposing additional EFH amendments to the Salmon FMP at this time given the approval of Amendment 11.

Public comments are being solicited on the proposed amendments to the FMPs through the end of the comment period (see DATES). All comments received by the end of the comment period will be considered in the FMP approval/disapproval decision. To be considered, comments must be received, not just postmarked or otherwise transmitted, by 5 p.m., Alaska local time on the last day of the comment period. Comments received after that date will not be considered in the approval/disapproval decision on the amendments.

Authority: 16 U.S.C. 1801 et seq.

Dated: August 3, 2012.
James P. Burgess,
Acting Deputy Director, Office of Sustainable Fisheries, National Marine Fisheries Service.

[FR Doc. 2012-19454 Filed 8-7-12; 8:45 am]

BILLING CODE 3510-22-P